DEPARTMENT OF ENERGY

Federal Energy Regulatory Commission

Combined Notice of Filings #1

June 16, 2008.

Take notice that the Commission has received the following Natural Gas Pipeline Rate and Refund Report filings:

Docket Numbers: RP96-200-192.

Applicants: CenterPoint Energy Gas Transmission Co.

Description: CenterPoint Energy Gas Transmission Co. submits two negotiated rate agreements with Connect Energy Services, LLC.

Filed Date: 06/13/2008.

Accession Number: 20080613-0074.

Comment Date: 5 p.m. Eastern Time on Wednesday, June 25, 2008.

Docket Numbers: RP08-358-001.

Applicants: CenterPoint Energy Gas Transmission Co.

Description: CenterPoint Energy Gas Transmission Co. submits Substitute Thirteenth Revised Sheet 32 et al. to FERC Gas Tariff, Sixth Revised Volume 1 to comply with the Commission's Letter Order issued on 5/29/08, effective 6/1/08.

Filed Date: 06/13/2008.

Accession Number: 20080616-0001.

Comment Date: 5 p.m. Eastern Time on Wednesday, June 25, 2008.

Docket Numbers: RP08-360-001.

Applicants: Northern Natural Gas Company.

Description: Northern Natural Gas Co. submits supportive information in compliance with FERC's 5/29/08 Order.

Filed Date: 06/11/2008.

Accession Number: 20080612-0201.

Comment Date: 5 p.m. Eastern Time on Monday, June 23, 2008.

Docket Numbers: RP08-340-001.

Applicants: Cheyenne Plains Gas Pipeline Company LLC.

Description: Cheyenne Plains Gas Pipeline Company, LLC's compliance filing of workpapers in support of the fuel gas and lost and unaccounted for gas reimbursement percentages.

Filed Date: 06/12/2008.

Accession Number: 20080613-0075.

Comment Date: 5 p.m. Eastern Time on Tuesday, June 24, 2008.

Docket Numbers: RP08-404-000.

Applicants: Williston Basin Interstate Pipeline Co.

Description: Williston Basin Interstate Pipeline Co. submits Fourteenth Revised Sheet 376 and 376A to FERC Gas Tariff, Second Revised Volume 1, to become effective 6/10/08.

Filed Date: 06/10/2008.

Accession Number: 20080611-0128.

Comment Date: 5 p.m. Eastern Time on Monday, June 23, 2008.

Docket Numbers: RP08-405-000.

Applicants: National Fuel Gas Supply Corporation.

Description: Petition of National Fuel Gas Supply Corp. for Waiver of Tariff Provisions.

Filed Date: 06/10/2008.

Accession Number: 20080611-0129.

Comment Date: 5 p.m. Eastern Time on Monday, June 23, 2008.

Docket Numbers: RP08-406-000.

Applicants: El Paso Natural Gas Company.

Description: El Paso Natural Gas Co submits a request for waiver of Section 5.1(a) of the General Terms and Conditions re FERC Gas Tariff, Second Revised Volume 1A.

Filed Date: 06/11/2008.

Accession Number: 20080612-0202.

Comment Date: 5 p.m. Eastern Time on Monday, June 23, 2008.

Docket Numbers: RP08-407-000.

Applicants: El Paso Natural Gas Company.

Description: El Paso Natural Gas Co submits Fifth Revised Sheet 226 to FERC Gas Tariff, Second Revised Volume 1A, to become effective on 7/14/08.

Filed Date: 06/11/2008.

Accession Number: 20080612-0203.

Comment Date: 5 p.m. Eastern Time on Monday, June 23, 2008.

Docket Numbers: RP08-408-000.

Applicants: Saltville Gas Storage Company L.L.C.

Description: Saltville Gas Storage Company, LLC submits First Revised Sheet 3 to FERC Gas Tariff, Original Volume 1, to become effective 7/12/08.

Filed Date: 06/12/2008.

Accession Number: 20080613-0007.

Comment Date: 5 p.m. Eastern Time on Tuesday, June 24, 2008.

Docket Numbers: RP08-358-001.

Applicants: CenterPoint Energy Gas Transmission Co.

Description: CenterPoint Energy Gas Transmission Co submits Substitute Thirteenth Revised Sheet 32 et al to FERC Gas Tariff, Sixth Revised Volume 1 to comply with the Commission's Letter Order issued on 5/29/08, effective 6/1/08.

Filed Date: 06/13/2008.

Accession Number: 20080616-0001.

Comment Date: 5 p.m. Eastern Time on Wednesday, June 25, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-13904 Filed 6-19-08; 8:45 am]

BILLING CODE 6717-01-P